DEPARTMENT OF THE INTERIOR

National Park Service

General Management Plan, Final Environmental Impact Statement, Colorado National Monument, Colorado

AGENCY: National Park Service, Department of the Interior.

ACTION: Notice of Availability of a Record of Decision on the Final Environmental Impact Statement for the Final Environmental Impact Statement for the General Management Plan, Colorado National Monument.

SUMMARY: Pursuant to Section 102(2)(C) of the National Environmental Policy Act of 1969, 83 Stat. 852, 853, codified as amended at 42 U.S.C. 4332(2)(C), the National Park Service announces the availability of the Record of Decision for the General Management Plan, Final Environmental Impact Statement, Colorado National Monument, Colorado. On August 31, 2005, the Director, Intermountain Region, approved the Record of Decision for the project. As soon as practicable, the National Park Service will begin to implement the Preferred Alternative contained in the FEIS issued on June 6, 2005. The following course of action will occur under the preferred alternative: Weave Colorado National Monument into the regional ecosystem on the northeastern edge of the Colorado Plateau by pursuing common stewardship goals with government agencies, tribes, educational institutions, and communities.

This course of action and 2 alternatives were analyzed in the Draft and Final Environmental Impact Statements. The full range of foreseeable environmental consequences was assessed, and appropriate mitigating measures were identified.

The Record of Decision includes a statement of the decision made, synopses of other alternatives considered, the basis for the decision, a description of the environmentally preferable alternative, a finding on impairment of park resources and values, a listing of measures to minimize environmental harm, an overview of public involvement in the decision-making process, and finding that the alternative selected for implementation will not impair park resources or values and will not violate the NPS Organic Act.

FOR FURTHER INFORMATION CONTACT: Superintendent Bruce Noble, Colorado National Monument, Fruita, CO 81521-0001; Tel: (970) 858-3617, ext. 300; FAX: (970) 858-0372; e-mail: bruce_noble@nps.gov.

SUPPLEMENTARY INFORMATION: Copies of the Record of Decision may be obtained from the contact listed above or online at http://planning.nps.gov/plans.cfm

Dated: August 30, 2005.
Michael D. Snyder,
Acting Director, Intermountain Region, National Park Service.

[FR Doc. 05-21941 Filed 11-2-05; 8:45 am]

BILLING CODE 4312-CP-P